FEDERAL RESERVE SYSTEM

Formations of, Acquisitions by, and Mergers of Bank Holding Companies; Correction

This notice corrects a notice (FR Doc. 01-159) published on page 798 of the issue for Thursday, January 4, 2001.

Under the Federal Reserve Bank of San Francisco heading, the entry for Franklin Resources, Inc., San Mateo, California, is revised to read as follows:

A. Federal Reserve Bank of San Francisco (Maria Villanueva, Consumer Regulation Group) 101 Market Street, San Francisco, California 94105-1579:

1. Franklin Resources, Inc. San Mateo, California; to become a bank holding company by acquiring 100 percent of the voting shares of Fiduciary Trust Company International, New York, New York.

In connection with this application, Applicant also has applied to acquire Franklin Templeton Bank & Trust F.S.B., Salt Lake City, Utah, and thereby engage in operating a savings association, pursuant to § 225.28(b)(4)(ii) of Regulation Y.

Comments on this application must be received by January 29, 2001.

Board of Governors of the Federal Reserve System, January 17, 2001.
Robert deV. Frierson,
Associate Secretary of the Board.

[FR Doc. 01-1911 Filed 01-22-01; 8:45 am]

BILLING CODE 6210-01-S